DEPARTMENT OF COMMERCE

International Trade Administration

[A-570-890]

Wooden Bedroom Furniture From the People's Republic of China: Preliminary Results of Antidumping Duty Administrative Review and Intent To Rescind Review in Part

AGENCY: Import Administration, International Trade Administration, Department of Commerce.

SUMMARY: In response to requests from interested parties, the Department of Commerce (Department) is conducting an administrative review of the antidumping duty order on wooden bedroom furniture (WBF) from the People's Republic of China (PRC). The period of review (POR) is January 1, 2008 through December 31, 2008. This administrative review covers multiple exporters of the subject merchandise, two of which are being individually examined as mandatory respondents.

We have preliminarily determined that one of the mandatory respondents made sales in the United States at prices below normal value (NV), one mandatory respondent and two separate rate applicants did not demonstrate that they are entitled to a separate rate, and thus have been treated as part of the PRC-wide entity, and 12 separate rate applicants demonstrated that they are entitled to a separate rate and have been assigned the dumping margin calculated for the one fully participating mandatory respondent. If these preliminary results are adopted in our final results of review, we will instruct U.S. Customs and Border Protection (CBP) to assess antidumping duties on entries of subject merchandise during the POR for which the importer-specific assessment rates are above de minimis.

We invite interested parties to comment on these preliminary results. Parties who submit comments are requested to submit with each argument a statement of the issue and a brief summary of the argument. We intend to issue the final results of this review no later than 120 days from the date of publication of this notice.

FOR FURTHER INFORMATION CONTACT: Jeff Pedersen or David Edmiston, AD/CVD Operations, Office 4, Import Administration, International Trade Administration, U.S. Department of Commerce, 14th Street and Constitution Avenue, NW., Washington, DC 20230; telephone: (202) 482-2769, and (202) 482-0989 respectively.

SUPPLEMENTARY INFORMATION: On January 4, 2005, the Department published in the Federal Register the antidumping duty order on WBF from the PRC. See Notice of Amended Final Determination of Sales at Less Than Fair Value and Antidumping Duty Order: Wooden Bedroom Furniture from the People's Republic of China, 70 FR 329 (January 4, 2005) (Order). On January 5, 2009, the Department notified interested parties of their opportunity to request an administrative review of orders, finding, or suspended investigations with anniversaries in January 2009, including the antidumping duty order on WBF from the PRC. See Antidumping or Countervailing Duty Order, Finding, or Suspended Investigation; Opportunity to Request Administrative Review, 74 FR 265 (January 5, 2009). In January 2009, the American Furniture Manufacturers Committee for Legal Trade and Vaughan-Bassett Furniture Company, Inc., (AFMC/Vaughan-Bassett) (petitioners), Kimball International, Inc., Kimball Furniture Group, Inc. and Kimball Hospitality Inc., and the domestic interested party American of Martinsville, and certain foreign exporters requested that the Department conduct an administrative review of certain companies. In total, administrative reviews were requested for 200 companies. On February 26, 2009, the Department published in the Federal Register a notice initiating an antidumping duty administrative review of WBF from the PRC covering 200 companies and the period January 1, 2008 through December 31, 2008. See Initiation of Antidumping Duty Administrative Review, 74 FR 8776 (February 26, 2009) (Initiation Notice).

In the Initiation Notice, parties were notified that if the Department limited the number of respondents selected for individual examination, it would select respondents based on export/shipment data provided in response to the Department's quantity and value (Q&V) questionnaire. See Initiation Notice 74 FR at 8776-77. The Initiation Notice also notified parties that they must timely submit Q&V questionnaire responses and separate rate applications or separate rate certifications in order to qualify for a separate rate. See Id.

On February 26, 2009, the Department issued Q&V questionnaires to all companies subject to the review, and requested that the companies report the Q&V of their POR exports and/or shipments of WBF to the United States. The Department received Q&V questionnaire responses and separate rate certifications and applications in March and April 2009.¹

¹ The Department did not receive Q&V questionnaire responses from all 200 of the companies for which the instant review was initiated. See the “Non-responsive Companies” section of this notice below for a detailed discussion of these companies. In addition to the mandatory respondents, the Department received separate rate certifications and applications from 12 companies for which all review requests have not been withdrawn.

On March 27, 2009, petitioners requested that the Department determine whether certain companies for which it requested a review had absorbed antidumping duties for U.S. sales of WBF made during the POR, pursuant to section 751(a)(4) of the Tariff Act of 1930, as amended (the Act).

In March and April 2009, interested parties submitted comments on respondent selection.² Given its limited resources, and the fact that an administrative review was requested for 200 companies/company groupings, using Q&V data the Department limited the number of companies to be individually examined to: (1) Dalian Huafeng Furniture Co., Ltd., (Huafeng) (2) Guangdong Yihua Timber Industry Co., Ltd., (Yihua) and (3) Shanghai Aosen Furniture Co., Ltd. (Aosen) as mandatory respondents.³

² See memorandum to Abdelali Elouaradia regarding “Respondent Selection in the Antidumping Duty Administrative Review of Wooden Bedroom Furniture from the People's Republic of China” dated April 20, 2009 (Respondent Selection Memorandum).

³ See Respondent Selection Memorandum.

On April 20 and 21, 2009, the Department issued the antidumping questionnaire to Huafeng, Yihua, Aosen, and made the questionnaire available to the voluntary respondents, which included the group Dongguan Sunrise Furniture Co., Taicang Sunrise Wood Industry Co., Ltd., and Fairmont Designs.⁴ After all parties withdrew their review requests for Huafeng and Yihua,⁵ the Department issued an amendment to the Respondent Selection Memorandum on May 29, 2009, naming the group Dongguan Sunrise Furniture Co., Taicang Sunrise Wood Industry Co., Ltd., and Fairmont Designs as an additional mandatory respondent.⁶

⁴ Dongguan Sunrise Furniture Co., Taicang Sunrise Wood Industry Co., Ltd., Fairmont Designs, Shanghai Sunrise Furniture Co., Ltd., Fine Furniture (Shanghai) Ltd. and Meikangchi (Nantong) Furniture Company Ltd. requested to be treated as voluntary respondents. See Fairmont's Quantity and Value submission of January 29, 2009.

⁵ All review requests were withdrawn for Huafeng and Yihua prior to the due date for them to respond to section A of the questionnaire.

⁶ See memorandum to Abdelali Elouaradia regarding “Amendment to Respondent Selection in the Antidumping Duty Administrative Review of Wooden Bedroom Furniture from the People's Republic of China” dated May 29, 2009.

Between April 2009 and January 2010, Fairmont ⁷ responded to the Department's questionnaire and supplemental questionnaires and the petitioners commented on Fairmont's responses. After partially responding to section A of the antidumping questionnaire, on June 3, 2009, Aosen notified the Department that it would no longer be participating in the review, except with respect to demonstrating its eligibility to receive a separate rate, briefing, and any hearing that may be held in the review.⁸

⁷ Fairmont refers to the following companies which the Department has treated as a single entity: Dongguan Sunrise Furniture Co., Ltd., Taicang Sunrise Wood Industry Co., Ltd., Taicang Fairmount Designs Furniture Co., Ltd., and Meizhou Sunrise Furniture Co., Ltd. (Fairmont). See memorandum to John M. Andersen regarding “Affiliation and Single Entity Status of Dongguan Sunrise Furniture Co., Ltd., Taicang Sunrise Wood Industry Co., Ltd., Taicang Fairmount Designs Furniture Co., Ltd., and Meizhou Sunrise Furniture Co., Ltd.” dated October 8, 2009.

⁸ See Aosen's Withdrawal of Section A Questionnaire Response, dated June 3, 2009; also see the section of this notice entitled “Aosen” below.

After considering comments from interested parties, the Department accepted American of Martinsville's February 2, 2009, request for an administrative review of Guangzhou Maria Yee Furnishings Ltd., PYLA HK Ltd., and Maria Yee, Inc.⁹ The Department also determined that Xilinmen Group Co. Ltd. does not currently have separate rate status; ¹⁰ decided it was inappropriate to apply Woodworth Wooden Industries (Dong Guan) Co., Ltd.'s separate rate to Woodworth International Corp. (HK); ¹¹ and found that Yeh Brothers World Trade, Inc. had no sales of subject merchandise for export to the United States during the instant POR.¹²

⁹ See April 13, 2009, memorandum entitled “Requests for Review of Maria Yee by American Furniture Manufacturers Committee for Legal Trade and American of Martinsville in the Antidumping Duty Administrative Review of Wooden Bedroom Furniture from the People's Republic of China.”

¹⁰ See May 8, 2009, memorandum entitled “Xilinmen Group Co. Ltd.'s Separate Rate Status in the Antidumping Duty Proceeding Involving Wooden Bedroom Furniture from the People's Republic of China.”

¹¹ See September 15, 2009, memorandum entitled “Woodworth Wooden Industries (Dong Guan) Co., Ltd.'s Request in the Fourth Antidumping Duty Administrative Review of Wooden Bedroom Furniture from the People's Republic of China.”

¹² See the November 13, 2009, memorandum entitled “2008 Antidumping Duty Administrative Review of Wooden Bedroom Furniture from the People's Republic of China (PRC): Whether to Rescind the Review with Respect to Yeh Brothers World Trade, Inc.”

In response to the Department's June 22, 2009, letter providing parties with an opportunity to submit comments regarding surrogate country and surrogate value selection,¹³ Fairmont and AFMC/Vaughan Bassett filed surrogate country and surrogate value comments from July 2009 through January 2010.

¹³ See Letter from Howard Smith, Program Manager, Office 4, to All Interested Parties, “Antidumping Duty Administrative Review of Wooden Bedroom Furniture from the People's Republic of China (PRC),” dated June 22, 2009.

During March, April, and May 2009, a number of interested parties withdrew their review requests. On September 2, 2009, the Department published a notice rescinding the review with respect to 125 entities for which all review requests had been withdrawn. See Wooden Bedroom Furniture from the People's Republic of China: Notice of Partial Rescission of Antidumping Duty Administrative Review, 74 FR 45424 (September 2, 2009).¹⁴

¹⁴ Six companies (Ningbo Hengrun Furniture Co. Ltd, Ningbo Furniture Industries Limited, Ningbo Fubang Furniture Industries Limited, Techniwood Industries Ltd., Techniwood (Macao Commercial Offshore) Limited, Ningbo Techniwood Furniture Industries Limited) listed as one company in the initiation were itemized as 4 companies in the rescission notice.

On September 18, 2009, the Department extended the deadline for the issuance of the preliminary results of the administrative review until February 1, 2010. See Wooden Bedroom Furniture from the People's Republic of China: Extension of Time Limits for the Preliminary Results of the Antidumping Duty Administrative Review, 74 FR 47919 (September 18, 2009).

In October and November, 2009, the Department verified the questionnaire and supplemental questionnaire responses of Fairmont and the separate rate respondent, Longrange Furniture Co. Ltd. (Longrange).¹⁵

¹⁵ See the separate December 30, 2009, memoranda regarding verification in the 4th Antidumping Duty Administrative Review of Wooden Bedroom Furniture from the People's Republic of China covering Longrange, Dongguan Sunrise Furniture Co., Ltd., Fairmont International Co., Ltd., Cambium Business Group, Inc. (d.b.a. Fairmont), FDUSA, and Taicang Sunrise Wood Industry Co., Ltd. (referred to collectively as the 4th Review Verification Reports).

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹⁶ highboys,¹⁷ lowboys,¹⁸ chests of drawers,¹⁹ chests,²⁰ door chests,²¹ chiffoniers,²² hutches,²³ and armoires; ²⁴ (6) desks, computer stands, filing cabinets, book cases, or writing tables that are attached to or incorporated in the subject merchandise; and (7) other bedroom furniture consistent with the above list.

¹⁶ A chest-on-chest is typically a tall chest-of-drawers in two or more sections (or appearing to be in two or more sections), with one or two sections mounted (or appearing to be mounted) on a slightly larger chest; also known as a tallboy.

¹⁷ A highboy is typically a tall chest of drawers usually composed of a base and a top section with drawers, and supported on four legs or a small chest (often 15 inches or more in height).

¹⁸ A lowboy is typically a short chest of drawers, not more than four feet high, normally set on short legs.

¹⁹ A chest of drawers is typically a case containing drawers for storing clothing.

²⁰ A chest is typically a case piece taller than it is wide featuring a series of drawers and with or without one or more doors for storing clothing. The piece can either include drawers or be designed as a large box incorporating a lid.

²¹ A door chest is typically a chest with hinged doors to store clothing, whether or not containing drawers. The piece may also include shelves for televisions and other entertainment electronics.

²² A chiffonier is typically a tall and narrow chest of drawers normally used for storing undergarments and lingerie, often with mirror(s) attached.

²³ A hutch is typically an open case of furniture with shelves that typically sits on another piece of furniture and provides storage for clothes.

²⁴ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ²⁵ (9) jewelry armories; ²⁶ (10) cheval mirrors; ²⁷ (11) certain metal parts; ²⁸ (12) mirrors that do not attach to, incorporate in, sit on, or hang over a dresser if they are not designed and marketed to be sold in conjunction with a dresser as part of a dresser-mirror set; (13) upholstered beds ²⁹ and (14) toy boxes.³⁰

²⁵ As used herein, bentwood means solid wood made pliable. Bentwood is wood that is brought to a curved shape by bending it while made pliable with moist heat or other agency and then set by cooling or drying. See Customs' Headquarters' Ruling Letter 043859, dated May 17, 1976.

²⁶ Any armoire, cabinet or other accent item for the purpose of storing jewelry, not to exceed 24 in width, 18 in depth, and 49 in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture from the People's Republic of China: Notice of Final Results of Changed Circumstances Review and Revocation in Part, 71 FR 38621 (July 7, 2006).

²⁷ Cheval mirrors are any framed, tiltable mirror with a height in excess of 50 that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Results of Changed Circumstances Review and Determination to Revoke Order in Part, 72 FR 948 (January 9, 2007).

²⁸ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

²⁹ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

³⁰ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (ASTM) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” This order covers all WBF meeting the above description, regardless of tariff classification. Although the HTSUS subheadings are provided for convenience and customs purposes, our written description of the scope of this proceeding is dispositive.

Verification

As provided in section 782(i) of the Act, we have verified information provided by Fairmont and Longrange using standard verification procedures including on-site inspection of the manufacturer's facilities and the examination of relevant sales and financial records. Our verification results are outlined in the verification reports, the public versions of which are available in the Central Records Unit, Room 1117 of the main Department building.³¹

³¹ See the February 1, 2010, memoranda titled “Verification of the Sales and Separate Rate Questionnaire Responses of Longrange Furniture Co., Ltd in the 4th Antidumping Duty Administrative Review of Wooden Bedroom Furniture from the People's Republic of China (PRC),” “Verification at Dongguan Sunrise Furniture Co., Ltd. in the 4th Antidumping Duty Administrative Review of Wooden Bedroom Furniture from the People's Republic of China,” “Verification at Fairmont International Co., Ltd. in the 4th Antidumping Duty Administrative Review of Wooden Bedroom Furniture from the People's Republic of China,” “Verification at Cambium Business Group, Inc. (d.b.a. Fairmont) in the 4th Antidumping Duty Administrative Review of Wooden Bedroom Furniture from the People's Republic of China,” and “Verification at Taicang Sunrise Wood Industry Co., Ltd. in the 4th Antidumping Duty Administrative Review of Wooden Bedroom Furniture from the People's Republic of China,” (collectively referred to as the 4th Review Verification Reports).

Duty Absorption

Section 751(a)(4) of the Act provides for the Department, if requested, to determine during an administrative review initiated two or four years after publication of the order, whether antidumping duties have been absorbed by a foreign producer or exporter, if the subject merchandise is sold in the United States through an affiliated importer. See also, 19 CFR 351.213(j). On March 27, 2009, the petitioners requested that the Department determine whether the mandatory respondents and separate-rate respondents had absorbed antidumping duties for U.S. sales of WBF made during the POR. Since the instant review was initiated four years after publication of the WBF order, we have conducted a duty absorption analysis.

In determining whether the antidumping duties have been absorbed by the respondent, we presume the duties will be absorbed for those sales that have been made at less than NV. This presumption can be rebutted with evidence (e.g., an agreement between the affiliated importer and unaffiliated purchaser) that the unaffiliated purchaser will pay the full duty ultimately assessed on the subject merchandise. See, e.g., Certain Stainless Steel Butt-Weld Pipe Fittings From Taiwan: Preliminary Results of Antidumping Duty Administrative Review and Notice of Intent to Rescind in Part, 70 FR 39735, 39737 (July 11, 2005), (unchanged in final results) Notice of Final Results and Final Rescission in Part of Antidumping Duty Administrative Review: Certain Stainless Steel Butt-Weld Pipe Fittings From Taiwan, 70 FR 73727, 73728 (December 13, 2005). The Department requested that Fairmont provide evidence that its unaffiliated U.S. purchaser will pay any antidumping duties ultimately assessed on entries of subject merchandise.³² Fairmont did not provide any evidence in response to the Department's request.³³ Accordingly, based on the information on the record, we cannot conclude that the unaffiliated purchasers in the United States will ultimately pay assessed duties. Since Fairmont did not rebut the duty-absorption presumption with evidence that its unaffiliated U.S. purchasers will pay the full duty ultimately assessed on the subject merchandise, we preliminarily find that antidumping duties have been absorbed by Fairmont on all U.S. sales made through its affiliated importer.

³² See the Department's June 10, 2009, supplemental questionnaire sent to Fairmont at question 146.

³³ See Fairmont's July 2, 2009, supplemental questionnaire response.

The separate-rate respondents were only requested to provide information on their separate-rate status. Thus, we do not have the information necessary to assess whether the separate-rate respondents absorbed antidumping duties. Accordingly, we cannot make duty absorption determinations with respect to these companies. As explained below, Aosen did not fully participate in this review and has been treated as part of the PRC entity.

Intent To Rescind the 2008 Administrative Review, in Part

In response to the Department's Q&V questionnaire, 27 companies reported that they made no shipments of subject merchandise to the United States during the POR. To test these claims the Department ran a CBP data query, issued no-shipment inquiries to CBP asking it to provide any information that contradicted the no shipment claims, and obtained entry documents from CBP.³⁴ After examining record information, we have preliminarily determined that one of the 27 companies, Inni Furniture, did have shipments of subject merchandise that entered the United States during the POR.³⁵ In addition, we found that there was insufficient evidence on the record to preliminarily rescind the review with respect to another company, Nanjing Nanmu Furniture Co., Ltd. (Nanjing Nanmu). We intend to obtain additional information regarding Nanjing Nanmu's no shipments claim and to continue examining the claim.

³⁴ See memorandum to Abdelali Elouaradia Director Office 4 regarding “Intent to Rescind the Review of Respondents Claiming No Sales/Shipments” dated February 1, 2010.

³⁵ See Id; see also the “Separate Rates” section of this notice below for further information regarding the treatment of Inni.

Since record evidence did not contradict the no shipment claims of the following companies, the Department has preliminarily rescinded this administrative review with respect to these companies pursuant to 19 CFR 351.213(d)(3):

• Dalian Pretty Home Furniture

• Dongguan Dihao Furniture Co., Ltd.

• Dongguan Mingsheng Furniture Co., Ltd.

• Dongguan Mu Si Furniture Co., Ltd.

• Dongguan Sunshine Furniture Co., Ltd.

• Fortune Furniture Ltd., Dongguan Fortune Furniture Ltd.

• Foshan Guanqiu Furniture Co., Ltd.

• Fujian Lianfu Forestry Co., Ltd., a.k.a. Fujian Wonder Pacific Inc. (Dare Group)

• Fuzhou Huan Mei Furniture Co., Ltd. (Dare Group)

• Gaomi Yatai Wooden Ware Co., Ltd., Team Prospect International Ltd., Money Gain International Co.

• Golden Well International (HK), Ltd.

• Guangdong New Four Seas Furniture Manufacturing Ltd.

• Guangzhou Lucky Furniture Co. Ltd.

• Jiangsu Dare Furniture Co., Ltd. (Dare Group)

• Macau Youcheng Trading Co., Zhongshan Youcheng Wooden Arts & Crafts Co., Ltd.

• Nantong Yangzi Furniture Co., Ltd.

• Po Ying Industrial Co.

• Qingdao Beiyuan-Shengli Furniture Co., Ltd., Qingdao Beiyuan Industry Trading Co. Ltd.

• Qingdao Shengchang Wooden Co., Ltd

• Shanghai Fangjia Industry Co., Ltd.³⁶

³⁶ Shanghai Fangjia's only sales made during the POR were covered by a new shipper review covering the period January 1, 2008, through June 30, 2008 and thus are not subject to this review. See Wooden Bedroom Furniture From the People's Republic of China: Final Results of New Shipper Review, 74 FR 48905 (September 25, 2009).

• Shenzhen Shen Long Hang Industry Co., Ltd.

• Tianjin First Wood Co., Ltd.

• Winmost Enterprises Limited

• Yeh Brothers World Trade, Inc.³⁷

³⁷ See the memorandum to Abdelali Elouaradia Director, Office 4 regarding the “2008 Antidumping Duty Administrative Review of Wooden Bedroom Furniture from the People's Republic of China (PRC): Whether to Rescind the Review with Respect to Yeh Brothers World Trade, Inc.” dated November 13, 2009 in which the Department indicated that it intended to rescind the instant review with respect to Yeh Brothers.

• Zhangzhou XYM Furniture Product Co., Ltd.

Non-Market Economy Country Status

In every case conducted by the Department involving the PRC, the PRC has been treated as a non-market economy (NME) country. In accordance with section 771(18)(C)(i) of the Act, any determination that a foreign country is an NME country shall remain in effect until revoked by the administering authority. None of the parties to this proceeding have contested such treatment. Accordingly, the Department calculated NV in accordance with section 773(c) of the Act, which applies to NME countries.

Selection of a Surrogate Country

When the Department conducts an antidumping duty administrative review of imports from a NME country, section 773(c)(1) of the Act directs the Department to base NV, in most cases, on the NME producer's factors of production (FOP) valued in a surrogate market-economy country or countries considered appropriate by the Department. In accordance with section 773(c)(4) of the Act, the Department will value FOP using “to the extent possible, the prices or costs of factors of production in one or more market economy countries that are—(A) At a level of economic development comparable to that of the NME country, and (B) significant producers of comparable merchandise.” Further, pursuant to 19 CFR 351.408(c)(2), the Department will normally value all FOP in a single country, except for labor.

In the instant review, the Department identified India, Indonesia, the Philippines, Colombia, Thailand, and Peru as being at a level of economic development comparable to the PRC.³⁸ On July 20, 2009, the petitioners and Fairmont provided information regarding the selection of a surrogate country.³⁹ On August 11, 2009, the Department received rebuttal surrogate country comments from Fairmont.⁴⁰ Although AFMC/Vaughan Bassett asserts that India is the appropriate surrogate country in the instant review, they recognize that in the two most recent segments of this proceeding, the Department selected the Philippines as the surrogate country and therefore, they submitted surrogate value information from the Philippines.⁴¹ Fairmont asserts that the Philippines should be selected as the surrogate country.⁴² No other interested parties commented on the selection of a surrogate country.

³⁸ See memorandum entitled, “Request for a List of Surrogate Countries for an Administrative Review of the Antidumping Duty Order on Wooden Bedroom Furniture (“WBF”) from the People's Republic of China (“PRC”),” dated April 24, 2009 (Policy Memorandum).

³⁹ See Letter from petitioners regarding, “Wooden Bedroom Furniture From the People's Republic of China: Surrogate Country Comments,” dated July 20, 2009, (“Petitioners' Surrogate Country Comments”) and Letter from Fairmont regarding, “Wooden Bedroom Furniture From the People's Republic of China, A-570-890: Comments on Surrogate Country Selection,” July 20, 2009 (Fairmont's Surrogate Country Comments”).

⁴⁰ See Letter from Fairmont regarding, “Wooden Bedroom Furniture From the People's Republic of China, A-570-890: Rebuttal to Petitioners Surrogate Country and Surrogate Value Comments of July 20, 2009, ” dated August 11, 2009.

⁴¹ See Petitioners' Surrogate Country Comments at 2.

⁴² See Fairmont's Surrogate Country Comments at 1-2.

Based on the information on the record, we find that the Philippines is a significant producer of comparable merchandise. Specifically, The Furniture Industry in the Philippines report indicates that in 2006, Philippine manufacturers produced furniture valued at $813 million and the Philippines exported furniture valued at $279 million.⁴³ The State of the Sector Report on Philippine Furniture 2006 indicates that wooden furniture has replaced rattan as the most commonly used material and accounted for 51% of all Philippine furniture exports.⁴⁴ In addition, both The Furniture Industry in the Philippines and State of the Sector Report on Philippine Furniture 2006 describe the furniture sector as comprised of approximately 15,000 manufacturers and 800,000 workers.⁴⁵ Thus, record evidence shows that the Philippines is a significant producer of merchandise that is comparable to the merchandise under review.

⁴³ See Id. at Exhibit 4.

⁴⁴ See Id.

⁴⁵ See Id. at Exhibits 2 and 4.

With respect to data considerations in selecting a surrogate country, AFMC/Vaughan Bassett and Fairmont have submitted publicly-available Philippine data for valuing Fairmont's FOP. In addition, the Department used the Philippines as the primary surrogate country in the second and third administrative reviews of this proceeding.⁴⁶ Therefore, based on its experience, the Department finds that reliable, publicly available data for valuing FOPs exists for the Philippines.

⁴⁶ See Wooden Bedroom Furniture from the People's Republic of China: Preliminary Results of Antidumping Duty Administrative Review, Preliminary Results of New Shipper Review and Partial Rescission of Administrative Review, 73 FR 8273, 8277-78 (February 13, 2008) (unchanged in the final results) and Wooden Bedroom Furniture from the People's Republic of China: Preliminary Results of Antidumping Duty Administrative and New Shipper Reviews and Partial Rescission of Review, 74 FR 6372, 6376 (February 9, 2009) (unchanged in the final results).

Thus, the Department has preliminarily selected the Philippines as the surrogate country because the record shows that the Philippines is at a level of economic development comparable to that of the PRC and is a significant producer of merchandise comparable to subject merchandise. Moreover, the record indicates that sufficient, contemporaneous, public Philippine data are readily-available.⁴⁷ Accordingly, we have selected the Philippines as the surrogate country and we have calculated NV using Philippine prices to value Fairmont's FOP.⁴⁸ In accordance with 19 CFR 351.301(c)(3)(ii), interested parties may submit publicly-available information to value FOP until 20 days after the date of publication of the preliminary results.⁴⁹

⁴⁷ See February 1, 2010 memorandum entitled “Fairmont Designs Factor Valuation Memorandum” (Factor Valuation Memorandum).

⁴⁸ See Id.

⁴⁹ In accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information placed on the record. The Department generally will not accept the submission of additional, previously absent-from-the-record alternative surrogate value information pursuant to 19 CFR 351.301(c)(1). See Glycine from the People's Republic of China: Final Results of Antidumping Duty Administrative Review and Final Rescission, in Part, 72 FR 58809 (October 17, 2007) and accompanying Issues and Decision Memorandum at Comment 2.

Separate Rates

In proceedings involving NME countries, the Department has a rebuttable presumption that all companies within the country are subject to government control and thus should be assessed a single antidumping duty rate. It is the Department's policy to assign all exporters of subject merchandise in a NME country this single rate unless an exporter can demonstrate that it is sufficiently independent so as to be entitled to a separate rate. Exporters can demonstrate this independence through the absence of both de jure and de facto governmental control over export activities. The Department analyzes each entity exporting the subject merchandise under a test arising from the Notice of Final Determination of Sales at Less Than Fair Value: Sparklers from the People's Republic of China, 56 FR 20588 (May 6, 1991) (Sparklers), as further developed in Notice of Final Determination of Sales at Less Than Fair Value: Silicon Carbide from the People's Republic of China, 59 FR 22585, 22586-87 (May 2, 1994) (Silicon Carbide). However, if the Department determines that a company is wholly foreign-owned or located in a market economy, then a separate rate analysis is not necessary to determine whether it is independent from government control. See Notice of Final Determination of Sales at Less Than Fair Value: Creatine Monohydrate from the People's Republic of China, 64 FR 71104, 71105 (December 20, 1999) (where the respondent was wholly foreign-owned, and thus, qualified for a separate rate).

A. Separate Rate Recipients

1. Wholly Foreign-Owned

Certain companies reported they are wholly owned by individuals or companies located in a market economy (collectively “Foreign-owned SR Applicants”). The record indicates that these companies are wholly foreign-owned and the Department has no evidence indicating that they are under the control of the PRC government. Accordingly, the Department has preliminarily granted a separate rate to these Foreign-owned SR Applicants. See Preliminary Results of Review section below for companies marked with a “‸” designating these companies as wholly foreign-owned.

2. Joint Ventures Between Chinese and Foreign Companies or Wholly Chinese-Owned Companies

For all separate-rate applicants that reported that they are either joint ventures between Chinese and foreign companies or are wholly Chinese-owned companies (collectively PRC SR Applicants), the Department has analyzed whether each PRC SR Applicant has demonstrated the absence of de jure and de facto governmental control over its respective export activities.

a. Absence of De Jure Control

The Department considers the following de jure criteria in determining whether an individual company may be granted a separate rate: (1) An absence of restrictive stipulations associated with an individual exporter's business and export license; (2) legislative enactments decentralizing control of companies; and (3) other formal measures by the government decentralizing control of companies. See Sparklers, 56 FR at 20589.

The evidence provided by the PRC SR Applicants supports a preliminary finding of de jure absence of governmental control based on the following: (1) An absence of restrictive stipulations associated with the individual exporters' business and export licenses; (2) applicable legislative enactments decentralizing control of PRC companies; and (3) formal measures by the government decentralizing control of PRC companies.

b. Absence of De Facto Control

The Department considers four factors in evaluating whether each respondent is subject to de facto governmental control of its export functions: (1) Whether the export prices are set by or are subject to the approval of a governmental agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are, in fact, subject to a degree of governmental control which would preclude the Department from assigning separate rates.

The evidence provided by the SR Applicants supports a preliminary finding of de facto absence of governmental control based on the following: (1) An absence of restrictive governmental control on the PRC SR Applicants' export prices; (2) a showing of the PRC SR Applicants' authority to negotiate and sign contracts and other agreements; (3) a showing that the PRC SR Applicants maintain autonomy from the government in making decisions regarding the selection of management; and (4) a showing that the PRC SR Applicants retain the proceeds of their respective export sales and make independent decisions regarding disposition of profits or financing of losses.

The evidence placed on the record by the PRC SR Applicants demonstrates an absence of de jure and de facto government control, in accordance with the criteria identified in Sparklers and Silicon Carbide. Accordingly, the Department has preliminarily granted a separate rate to the PRC SR Applicants. See “Preliminary Results of Review” section below for companies marked with an “*” designating these companies as joint ventures between Chinese and foreign companies or wholly Chinese-owned companies.

B. Margins for Separate Rate Recipients Not Individually Examined

Consistent with our normal practice, we based the weighted-average dumping margin for the separate rate recipients not individually examined on the weighted average dumping margin calculated for Fairmont, the one mandatory respondent that fully participated in this review. The entities receiving this rate are identified by name in the “Preliminary Results of Review” section of this notice.

C. Nanjing Nanmu

Nanjing Nanmu, which had been granted a separate rate in the most recently completed review in which it was a respondent, did not file a separate rate application or separate rate certification in the instant review. Instead, Nanjing Nanmu reported that it made no shipments of subject merchandise to the United States during the POR. When record evidence does not call into question the no shipments claim of a respondent with a separate rate, the Department generally will rescind the review in which the respondent claimed no shipments and the respondent will retain its separate rate. However, as noted above, the Department has not preliminarily rescinded the review with respect to Nanjing Nanmu; rather it intends to obtain additional information regarding Nanjing Nanmu's no shipments claim and to continue examining the claim. As Nanjing Nanmu has not applied for separate rate status in this administrative review, and we have not preliminarily rescinded the review with respect to Nanjing Nanmu, we have considered Nanjing Nanmu to be part of the PRC-wide entity for purposes of these preliminary results. The Department intends to make a preliminary determination regarding whether Nanjing Nanmu shipped subject merchandise during the POR at a later date.

D. Companies Not Receiving a Separate Rate

The following 34 companies for which the Department initiated the instant review did not provide a separate rate certification or application:

• Best King International Ltd.

• Brother Furniture Manufacture Co., Ltd.

• BNBM Co., Ltd. (aka Beijing New Materials Co., Ltd.)

• Classic Furniture Global Co., Ltd.

• Der Cheng Wooden Works of Factory

• Dong Guan Golden Fortune Houseware Co., Ltd.

• Dongguan Chunsan Wood Products Co., Ltd., Trendex Industries Ltd.

• Dongguan Hua Ban Furniture Co., Ltd.

• Dongguan New Technology Import & Export Co., Ltd.

• Dongguan Sunpower Enterprise Co., Ltd.

• Ever Spring Furniture Co. Ltd., S.Y.C Family Enterprise Co., Ltd.

• Furnmart Ltd.

• Green River Wood (Dongguan) Ltd.

• Guangming Group Wumahe Furniture Co., Ltd.

• Hamilton & Spill Ltd.

• Hung Fai Wood Products Factory, Ltd.

• Hwang Ho International Holdings Limited

• Kalanter (Hong Kong) Furniture Company Limited

• King Kei Furniture Factory, King Kei Trading Co., Ltd., Jiu Ching Trading Co., Ltd.

• King Wood Furniture Co., Ltd.

• King's Way Furniture Industries Co., Ltd., Kingsyear Ltd.

• Profit Force Ltd.

• Shenyang Kunyu Wood Industry Co., Ltd.

• Shenzhen Dafuhao Industrial Development Co., Ltd.

• Sino Concord International Corporation

• Starwood Furniture Manufacturing Co. Ltd.

• Top Goal Development Co.

• Union Friend International Trade Co., Ltd.

• Wan Bao Chen Group Hong Kong Co. Ltd.

• Xingli Arts & Crafts Factory of Yangchun

• Yangchen Hengli Co., Ltd.

• Yichun Guangming Furniture Co., Ltd.

• Yongxin Industrial (Holdings) Limited

• Zhong Cheng Furniture Co., Ltd.

In addition, with the exception of Brother Furniture Manufacture Co., Ltd., none of the above companies responded to the Department's Q&V questionnaire.

The companies listed above, which were named in the Initiation Notice, were notified in that notice that they must timely submit Q&V questionnaire responses and separate rate applications or separate rate certifications in order to qualify for a separate rate. Additionally, the Initiation Notice identified the Web site address where the separate rate certification, the separate rate application, and the Q&V questionnaire could be found. Further, the Department sent Q&V questionnaires to each of the above companies.⁵⁰ Since each of the companies listed above did not provide separate rate information, they have failed to demonstrate their eligibility for separate-rate status. As a result, the Department is treating these PRC exporters as part of the PRC-wide entity.

⁵⁰ The Department was able to confirm delivery of the Q&V questionnaire to all of the companies listed above except the following companies: Yongxin Industrial (Holdings) Limited, Ever Spring Furniture Co. Ltd., S.Y.C Family Enterprise Co., Ltd., King's Way Furniture Industries Co., Ltd., Kingsyear Ltd., Yichun Guangming Furniture Co., Ltd. See memorandum to the File regarding “Delivery Documentation for Quantity and Value Questionnaires Sent to Nonresponsive Companies” dated August 5, 2009; see also memorandum to the File regarding “Quantity and Value Questionnaires That Could Not Be Delivered” dated December 9, 2009. In issuing Q&V questionnaires, the Department relied upon the addresses provided by the petitioners and attempted to obtain new addresses from the petitioners and to resend the Q&V questionnaire to companies to which the first Q&V questionnaire issued could not be delivered.

Also, Inni Furniture, which the Department found to have made shipments of subject merchandise during the POR, despite its claims to the contrary, did not file a separate rate certification or application. Since this company did not provide separate rate information, it has failed to demonstrate its eligibility for separate-rate status. As a result, the Department is treating this company as part of the PRC-wide entity.

Aosen

After examining Aosen's response to section A of the Department's antidumping duty questionnaire, the Department determined that the response was incomplete (Aosen did not respond to questions in Appendix X of the questionnaire), and that it required additional information, including information related to Aosen's eligibility for a separate rate. On June 3, 2009, the Department issued a supplemental questionnaire to Aosen. On that same day, Aosen notified the Department that it would no longer participate in the instant review, except with respect to demonstrating its eligibility for a separate rate.⁵¹ Aosen did not respond to sections C or D of the antidumping questionnaire, nor did it respond to the section A supplemental questionnaire. On June 30, 2009, the Department issued a letter notifying Aosen that “it requires mandatory respondents to fully participate in a proceeding in order to qualify for separate rate status.” ⁵² In that letter, the Department provided Aosen with additional time to complete Appendix X of the questionnaire and the section A supplemental questionnaire and explained that, once selected as a mandatory respondent, a respondent cannot decide to participate in a review only for purposes of establishing its separate rate status. Aosen did not submit a response to either Appendix X or the supplemental questionnaire, but instead it submitted a letter stating that it was no longer participating in the instant review “except with respect to demonstrating the evidence it has already placed on the record is correct, submitting comments on the Department's preliminary and final results, and participating in any hearing in this review.” ⁵³

⁵¹ See Aosen's letter regarding “Wooden Bedroom Furniture from the People's Republic of China; Withdrawal of Shanghai Aosen Section A Questionnaire Response” dated June 3, 2009.

⁵² See letter to Shanghai Aosen Furniture Co., Ltd. regarding “Antidumping Duty Administrative Review of Wooden Bedroom Furniture from the People's Republic of China (“PRC”) for the Period January 1, 2008, through December 31, 2008, dated June 30, 2009.

⁵³ See Aosen's letter regarding “Wooden Bedroom Furniture from the People's Republic of China; Withdrawal of Shanghai Aosen Furniture Co., Ltd.” (July 13, 2009) at 1.

We preliminarily determine that Aosen has withheld requested information and, contrary to its assertions, that Aosen has not demonstrated its eligibility for separate-rate status in this administrative review. Although Aosen provided a response to the separate rate portion of section A of the questionnaire, it failed to respond to the section A supplemental questionnaire which contained several questions and requests relating to its separate rate status. For example, Aosen failed to respond to requests in the supplemental section A questionnaire asking it to provide documents memorializing the making or approving of pricing decisions, a complete set of written price negotiations for sales during the period of review, and written evidence supporting claims regarding the selection of management. Moreover, Aosen did not respond to the supplemental questions asking how the general manager was selected and who was authorized to sign sales contracts, nor did it respond to requests in the section A supplemental questionnaire regarding its business license and capital verification report. Since Aosen failed to provide information requested by the Department that is necessary to analyze whether it qualified for a separate rate, Aosen has failed to rebut the presumption of PRC government control. Therefore, we have preliminarily determined that Aosen does not qualify for a separate rate, but rather should be treated as part of the PRC-wide entity. Furthermore, as noted in the Department's June 30, 2009 letter, once selected as a mandatory respondent, a company may not chose to participate in an administrative review solely for purposes of demonstrating its eligibility for a separate rate. It must fully participate in the review as a mandatory respondent in order to qualify for separate rate status.

Use of Facts Available and Adverse Facts Available (AFA)

Section 776(a) of the Act provides that the Department shall apply “facts otherwise available” if: (1) Necessary information is not on the record, or (2) an interested party or any other person (A) withholds information that has been requested, (B) fails to provide information within the deadlines established, or in the form and manner requested by the Department, subject to subsections (c)(1) and (e) of section 782 of the Act, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate.

Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information supplied if it can do so without undue difficulties.

Section 776(b) of the Act further provides that the Department may use an adverse inference in applying the facts otherwise available when a party has failed to cooperate by not acting to the best of its ability to comply with a request for information. Such an adverse inference may include reliance on information derived from the petition, the final determination, a previous administrative review, or other information placed on the record.

A. Application of Total Adverse Facts Available to the PRC-Wide Entity

In the Initiation Notice, the Department stated that if one of the companies for which this review has been initiated “does not qualify for a separate rate, all other exporters of wooden bedroom furniture from the PRC that have not qualified for a separate rate are deemed to be covered by this review as part of a single PRC entity * * *.” As noted above, not all of the companies for which this review was initiated have qualified for a separate rate; as a result, the PRC-wide entity is now under review.

With the exception of Brother Furniture Manufacture Co., Ltd., the companies which we are treating as part of the PRC-wide entity either did not provide shipment information in response to the Department's request for Q&V data, or, in Aosen's case, did not fully respond to the Department's antidumping duty questionnaire. Thus, we preliminarily determine that these companies withheld information requested by the Department. Furthermore, these companies' refusal to participate in the review significantly impeded the proceeding. For example, the Department selected Aosen as a mandatory respondent for which it would have calculated a company-specific dumping margin. Moreover, Aosen's dumping margin would have been averaged with the margin of the other mandatory respondent to calculate the dumping margin assigned to the separate rate respondents. Aosen's refusal to respond to section C and D of the questionnaire prevented the Department from determining its dumping margin. In addition, the other companies' failure to provide shipment information precluded the Department from determining whether or not these companies should be selected as mandatory respondents for which individual dumping margins would be calculated.

Thus, pursuant to section 776(a)(2)(A) and (C) of the Act (withholds requested information and significantly impedes a proceeding), the Department has preliminarily based the dumping margin of the PRC-wide entity on the facts otherwise available on the record. Furthermore, the PRC-wide entity's refusal to provide the requested information constitutes circumstances under which it is reasonable to conclude that less than full cooperation has been shown. See Nippon Steel Corporation v. United States, 337 F.3d 1373, 1383 (Fed. Cir. 2003) (Nippon Steel) where the Court of Appeals for the Federal Circuit provided an explanation of the “failure to act to the best of its ability” standard noting that the Department need not show intentional conduct existed on the part of the respondent, but merely that a “failure to cooperate to the best of a respondent's ability” existed (i.e., information was not provided “under circumstances in which it is reasonable to conclude that less than full cooperation has been shown”). Hence, pursuant to section 776(b) of the Act, the Department has determined that, when selecting from among the facts otherwise available, an adverse inference is warranted with respect to the PRC-wide entity.

B. Application of Partial Adverse Facts Available for Fairmont

At verification we discovered that Fairmont failed to report sales of 24 different models of Hospitality division products that appeared to be sales of subject merchandise.⁵⁴ We later confirmed that the sales in question were sales of subject merchandise by examining the engineering diagram for each product.⁵⁵ Since Fairmont did not report these sales and the related sales adjustments and did not provide information that would allow the Department to determine normal value for these products as requested by the Department, the information necessary to calculate a dumping margin for these sales is not on the record. Thus, the Department has based the dumping margin for the unreported sales on facts available pursuant to section 776(a)(2)(A) of the Act.

⁵⁴ See FDUSA Verification Report.

⁵⁵ See the Fairmont Analysis Memorandum entitled, “Wooden Bedroom Furniture from the People's Republic of China: Analysis of the Preliminary Results Margin Calculation for Fairmont Designs” (Fairmont Analysis Memorandum), dated February 1, 2010.

Moreover, the Department finds that in not reporting these sales, Fairmont has failed to cooperate by not acting to the best of its ability to comply with a request for information and thus it is appropriate to use an inference that is adverse to Fairmont's interests in selecting from among the facts otherwise available in accordance with section 776(b) of the Act. The Department requested that Fairmont report all U.S. sales and FOP information for subject merchandise sold during the POR.⁵⁶ In preparing a response to an inquiry from the Department, it is presumed that a respondent is familiar with its own records.⁵⁷ At verification, the verifiers readily identified these unreported sales in Fairmont's records.⁵⁸ Moreover, Fairmont acknowledges that most of these sales should have been reported.⁵⁹ This indicates that Fairmont did not act to the full extent of its abilities in investigating its records for sales of subject merchandise. Thus, Fairmont failed to act to the best of its ability to comply with the Department's repeated requests for information regarding all of its sales and FOP information for subject merchandise. Therefore, the Department has preliminarily determined to apply AFA to these unreported sales, pursuant to section 776(b) of the Act.

⁵⁶ See, e.g., the Department's letter dated April 20, 2009, at C-1 and D-1.

⁵⁷ See Nippon Steel, 337 F.3d 1373,1383.

⁵⁸ See December 30, 2009, memoranda entitled “Verification at Cambium Business Group, Inc. (d.b.a. Fairmont Designs) in the 4th Antidumping Duty Administrative Review of Wooden Bedroom Furniture from the People's Rebublic of China” at 9.

⁵⁹ See Fairmont's December 4, 2009, submission at 4-8 and Fairmont's December 30, 2009, submission at 3.

Selection of AFA Rates

A. Total AFA Rate for the PRC-Wide Entity

In deciding which facts to use as AFA, section 776(b) of the Act and 19 CFR 351.308(c)(1) provide that the Department may rely on information derived from (1) the petition, (2) a final determination in the investigation, (3) any previous review or determination, or (4) any information placed on the record. The Department's practice is to select an AFA rate that is sufficiently adverse “as to effectuate the purpose of the facts available rule to induce respondents to provide the Department with complete and accurate information in a timely manner” and that ensures “that the party does not obtain a more favorable result by failing to cooperate than if it had cooperated fully.” ⁶⁰ Specifically, the Department's practice in reviews, in selecting a rate as total AFA, is to use the highest rate on the record of the proceeding which, to the extent practicable, can be corroborated (assuming the rate is based on secondary information).⁶¹ The Court of International Trade (CIT) and the Court of Appeals for the Federal Circuit (Federal Circuit) have affirmed decisions to select the highest margin from any prior segment of the proceeding as the AFA rate on numerous occasions.⁶² Therefore, as AFA, the Department has preliminarily assigned the PRC-wide entity a dumping margin of 216.01 percent. This margin, which is from the 2004-2005 new shipper reviews of WBF from the PRC, is the highest dumping margin on the record of any segment of this proceeding.⁶³

⁶⁰ See Notice of Final Determination of Sales at Less than Fair Value: Static Random Access Memory Semiconductors From Taiwan, 63 FR 8909, 8911 (February 23, 1998); see also Brake Rotors From the People's Republic of China: Final Results and Partial Rescission of the Seventh Administrative Review; Final Results of the Eleventh New Shipper Review, 70 FR 69937, 69939 (November 18, 2005) and the SAA at 870.

⁶¹ See Glycine from the People's Republic of China: Preliminary Results of Antidumping Duty Administrative Review, 74 FR 15930, 15934 (April 8, 2009) unchanged in Glycine from the People's Republic of China: Final Results of Antidumping Duty Administrative Review, 74 FR 41121 (August 14, 2009); see also Fujian Lianfu Forestry Co., Ltd., a.k.a. Fujian Wonder Pacific Inc., et al. v. United States, 638 F.Supp.2d 1325, 1336 (CIT August 10, 2009) (“Commerce may, of course, begin its total AFA selection process by defaulting to the highest rate in any segment of the proceeding, but that selection must then be corroborated, to the extent practicable.”).

⁶² See e.g. NSK Ltd. v. United States, 346 F. Supp. 2d 1312, 1335 (Ct. Int'l Trade 2004) (affirming a 73.55 percent total AFA rate, the highest available dumping margin from a different respondent in the investigation); Kompass Food Trading International v. United States, 24 CIT 678, 683-84 (2000) (affirming a 51.16 percent total AFA rate, the highest available dumping margin from a different, fully cooperative respondent); and Shanghai Taoen International Trading Co., Ltd. v. United States, 360 F. Supp. 2d 1339, 1348 (Ct. Int'l Trade 2005) (affirming a 223.01 percent total AFA rate, the highest available dumping margin from a different respondent in a previous administrative review).

⁶³ See Wooden Bedroom Furniture from the People's Republic of China: Final Results of the 2004-2005 Semi-Annual New Shipper Reviews, 71 FR 70739, 70741 (December 6, 2006) (2004-2005 New Shipper Review).

B. Partial AFA for Fairmont's Unreported Sales

With respect to partial AFA, the Department's practice in reviews, in selecting a rate as partial AFA is to use the highest transaction-specific margin calculated for the respondent in question on a non-aberrational sale subject to the instant review.⁶⁴ In this case, we note that Fairmont's U.S. sales database contains an extremely high volume of transactions involving a wide and complex variety of products/models and types of sales. For example, Fairmont sold products as diverse as spare parts of bedroom furniture, armoires, wardrobes, and mirrors. Further, the types of sales are quite varied including sales to retail establishments and hotels. As a result, we believe under these particular circumstances that it is not feasible to apply our traditional methodology. Instead we assigned as partial AFA for the unreported sales the PRC-wide entity a dumping margin of 216.01 percent.

⁶⁴ See Ta Chen Stainless Steel Pipe, Inc. v. United States, 24 CIT 841, 846 2000 WL 1225799 (August 25, 2000) and Ta Chen Stainless Steel Pipe, Inc. v. United States, 298 F. 3d 1330, 1338.

Corroboration of Secondary Information

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 concerning the subject merchandise.⁶⁵ Corroborate means that the Department will satisfy itself that the secondary information to be used has probative value.⁶⁶ To corroborate secondary information, the Department will, to the extent practicable, examine the reliability and relevance of the information to be used.⁶⁷ Independent sources used to corroborate such evidence may include, for example, published price lists, official import statistics and customs data, and information obtained from interested parties during the particular investigation.⁶⁸

⁶⁵ See SAA at 870.

⁶⁶ See Id.

⁶⁷ See Tapered Roller Bearings and Parts Thereof, Finished and Unfinished from Japan, and Tapered Roller Bearings Four Inches or Less in Outside Diameter, and Components Thereof, from Japan: Preliminary Results of Antidumping Duty Administrative Reviews and Partial Termination of Administrative Reviews, 61 FR 57391, 57392 (November 6, 1996) (unchanged in the final determination); Final Results of Antidumping Duty Administrative Reviews and Termination in Part: Tapered Roller Bearings and Parts Thereof, Finished and Unfinished from Japan, and Tapered Roller Bearings Four Inches or Less in Outside Diameter, and Components Thereof, from Japan, 62 FR 11825 (March 13, 1997).

⁶⁸ See Notice of Preliminary Determination of Sales at Less Than Fair Value: High and Ultra-High Voltage Ceramic Station Post Insulators from Japan, 68 FR 35627, 35629 (June 16, 2003) (unchanged in final determination); Notice of Final Determination of Sales at Less Than Fair Value: High and Ultra High Voltage Ceramic Station Post Insulators from Japan, 68 FR 62560 (November 5, 2003); and Notice of Final Determination of Sales at Less Than Fair Value: Live Swine From Canada, 70 FR 12181, 12183-84 (March 11, 2005).

The 216.01 AFA rate that the Department is using in this review is a company-specific rate calculated in the 2004-2005 New Shipper Review of the WBF order.⁶⁹ No additional information has been presented in the current review which calls into question the reliability of the information. Thus we have determined this information continues to be reliable.

⁶⁹ See 2004-2005 New Shipper Review, 71 FR at 70741.

With respect to the relevance aspect of corroboration, the Department will consider information reasonably at its disposal to determine whether a margin continues to have relevance. Where circumstances indicate that the selected margin is not appropriate as AFA, the Department will disregard the margin and determine an appropriate margin. See Fresh Cut Flowers from Mexico: Final Results of Antidumping Administrative Review, 61 FR 6812, 6814 (February 22, 1996) (where the Department disregarded the highest margin in that case as adverse best information available (the predecessor to facts available) because the margin was based on another company's uncharacteristic business expense resulting in an unusually high margin). Similarly, the Department does not apply a margin that has been discredited. See D&L Supply Co. v. United States, 113 F.3d 1220, 1221 (Fed. Cir. 1997) (ruling that the Department will not use a margin that has been judicially invalidated). To assess the relevancy of the rate used, the Department compared the transaction-specific margins calculated for Fairmont in the instant administrative review with the 216.01 percent rate calculated in the 2004-2005 New Shipper Review. The Department found that the 216.01 percent margin was within the range of the margins calculated on the record of the instant administrative review. Since the 216.01 percent margin is within the range of transaction-specific margins on the record of this administrative review, the Department has determined that the 216.01 percent margin continues to be relevant for use as an AFA rate for the PRC-wide entity in this administrative review. Also, because this rate is within the range of Fairmont's transaction-specific margins in this review, we preliminarily find the rate relevant as applied to Fairmont's unreported sales.

As the adverse margin is both reliable and relevant, the Department has determined that it has probative value. Accordingly, the Department has determined that this rate meets the corroboration criterion established in section 776(c) of the Act.

Fair Value Comparisons

In accordance with section 777A(d)(2) of the Act, to determine whether Fairmont, a mandatory respondent, sold WBF to the United States at less than NV, we compared the weighted-average export and constructed export price of the WBF to the NV of the WBF, as described in the “U.S. Price,” and “Normal Value” sections of this notice.

Export Price

The Department considered the U.S. prices of certain sales by Fairmont to be export prices (EPs) in accordance with section 772(a) of the Act, because these were the prices at which the subject merchandise was first sold before the date of importation by the producer/exporter of the subject merchandise outside of the United States to an unaffiliated purchaser in the United States or to an unaffiliated purchaser for exportation to the United States.

We calculated EPs based on prices to unaffiliated purchaser(s) in the United States. We deducted movement expenses from the gross unit U.S. sales price in accordance with section 772(c)(2)(A) of the Act. These movement expenses include foreign inland freight-plant/warehouse to port of exit, and foreign brokerage and handling. For a detailed description of all adjustments, see Fairmont Analysis Memorandum, dated February 1, 2010.

Constructed Export Price

In accordance with section 772(b) of the Act, constructed export price (CEP) is the price at which the subject merchandise is first sold (or agreed to be sold) in the United States before or after the date of importation by or for the account of the producer or exporter of such merchandise or by a seller affiliated with the producer or exporter, to a purchaser not affiliated with the producer or exporter, as adjusted under sections 772(c) and (d) of the Act. We considered sales made by Fairmont's U.S. affiliate in the United States to be CEP sales.

We calculated CEP based on prices to unaffiliated purchasers in the United States. In accordance with section 772(c)(2)(A) and 772(d)(1) and of the Act, where applicable, we made deductions from the starting price for billing adjustments, discounts and rebates, movement expenses, and commissions, credit expenses, inventory carrying costs, factoring expense, warranty expense, and indirect selling expenses which relate to commercial activity in the United States. Movement expenses included, where applicable, foreign inland freight from plant to the port of exportation, foreign brokerage and handling, ocean freight, marine insurance, U.S. inland freight from port to the warehouse, U.S. freight from warehouse to customer, U.S. customs duty, and other U.S. transportation costs. Where applicable, we reduced movement expenses by freight revenue. In addition, we deducted CEP profit from U.S. price in accordance with sections 772(d)(3) and 772(f) of the Act. As a CEP adjustment and in accordance with section 773(a) of the Act, we calculated Fairmont's credit expenses and inventory carrying costs based on the company's short-term interest rate. For a detailed description of all adjustments, see Fairmont Analysis Memorandum, dated February 1, 2010.

Normal Value

Section 773(c)(1) of the Act provides that the Department shall determine the NV using an FOP methodology if: (1) The merchandise is exported from an NME country; and (2) the information does not permit the calculation of NV using home-market prices, third-country prices, or constructed value under section 773(e) of the Act. When determining NV in an NME context, the Department will base NV on FOP, because the presence of government controls on various aspects of these economies renders price comparisons and the calculation of production costs invalid under our normal methodologies. Under section 773(c)(3) of the Act, FOP include, but are not limited to: (1) Hours of labor required; (2) quantities of raw materials employed; (3) amounts of energy and other utilities consumed; and (4) representative capital costs. The Department based NV on FOP reported by the respondent for materials, energy, labor and packing.

In accordance with 19 CFR 351.408(c)(1), the Department will normally use publicly-available surrogates to value FOP, but when a producer sources an input from a market economy and pays for it in market economy currency, the Department will normally value the factor using the actual price paid for the input. However, when the Department has reason to believe or suspect that such prices may be distorted by subsidies, the Department will disregard the market economy purchase prices and use SVs to determine the NV.⁷⁰ Where the facts developed in either U.S. or third-country countervailing duty findings include the existence of subsidies that appear to be used generally (in particular, broadly available, non-industry specific export subsidies), the Department will have reason to believe or suspect that prices of the inputs from the country granting the subsidies may be subsidized.⁷¹

⁷⁰ See Tapered Roller Bearings and Parts Thereof, Finished and Unfinished, From the People's Republic of China; Final Results of the 1998-1999 Administrative Review, Partial Rescission of Review, and Determination Not to Revoke Order in Part, 66 FR 1953 (January 10, 2001) (TRBs 1998-1999), and accompanying Issues and Decision Memorandum at Comment 1.

⁷¹ See TRBs 1998-1999 at Comment 1; see also Tapered Roller Bearings and Parts Thereof, Finished and Unfinished, From the People's Republic of China; Final Results of 1999-2000 Administrative Review, Partial Rescission of Review, and Determination Not To Revoke Order in Part, 66 FR 57420 (November 15, 2001), and accompanying Issues and Decision Memorandum at Comment 1; see also China National Machinery Imp. & Exp. Corp. v. United States, 293 F. Supp. 2d 1334, 1338-39 (Ct. Int'l Trade 2003).

In avoiding the use of prices that may be subsidized, the Department does not conduct a formal investigation to ensure that such prices are not subsidized, but rather relies on information that is generally available at the time of its determination.⁷²

⁷² See H.R. Rep. 100-576, at 590 (1988), reprinted in 1988 U.S.C.C.A.N. 1547, 1623-24.

Factor Valuations

In accordance with section 773(c) of the Act, we calculated NV based on FOP reported by respondents for the POR. To calculate NV, the Department multiplied the reported per-unit factor quantities by publicly-available Philippine SVs (except as noted below). In selecting the SV, the Department considered the quality, specificity, and contemporaneity of the data. As appropriate, the Department adjusted input prices by including freight costs to make them delivered prices. Specifically, the Department added to Philippine import SVs a surrogate freight cost using the shorter of the reported distance from the domestic supplier to the respondent's factory or the distance from the nearest seaport to the respondent's factory where appropriate (i.e., where the sales terms for the market-economy inputs were not delivered to the factory). This adjustment is in accordance with the decision of the Federal Circuit in Sigma Corp. v. United States, 117 F.3d 1401, 1407-08 (Fed. Cir. 1997). Due to the extensive number of SVs it was necessary to assign in this administrative review, we present only a brief discussion of the main factors in this notice. For a detailed description of all SVs used to value the respondents reported FOP, see Factor Valuation Memorandum.

Fairmont reported that certain of its reported raw material inputs were sourced from a market-economy country and paid for in market-economy currencies. Pursuant to 19 CFR 351.408(c)(1), when a mandatory respondent sources inputs from a market-economy supplier in meaningful quantities (i.e., not insignificant quantities), we use the actual price paid by respondents for those inputs, except when prices may have been distorted by findings of dumping by the PRC and/or subsidies.⁷³ Fairmont reported information demonstrating that the quantities of certain raw materials purchased from market-economy suppliers are significant. Where we found market-economy purchases of inputs to be in significant quantities, in accordance with our statement of policy as outlined in Antidumping Methodologies: Market Economy Inputs, we have used the actual purchases of these inputs to value the inputs.⁷⁴

⁷³ See Antidumping Duties; Countervailing Duties; Final Rule, 62 FR 27296, 27366 (May 19, 1997).

⁷⁴ See Antidumping Methodologies: Market Economy Inputs, Expected Non-Market Economy Wages, Duty Drawback; and Request for Comments, 71 FR 61716, 61717 (October 19, 2006) (Antidumping Methodologies: Market Economy Inputs); See also Fairmont Analysis Memorandum.

Where market-economy purchases of inputs were not made in significant quantities, we used import values for the POR from the Philippines National Statistics Office (Philippines NSO) reported in U.S. dollars on a cost, insurance, and freight (CIF) basis to value the following inputs: processed woods (e.g., particleboard, etc.), adhesives and finishing materials (e.g., glue, paints, sealer, lacquer, etc.), hardware (e.g., nails, staples, screws, bolts, knobs, pulls, drawer slides, hinges, clasps, etc.), other materials (e.g., mirrors, glass, leather, cloth, sponge, etc.), and packing materials (e.g., cardboard, cartons, plastic film, labels, tape, etc.). The Philippines NSO is the only data source on the record that provides data on a net weight basis, which is the same basis as reported by the respondent in reporting its FOP. For a complete listing of all the inputs and the valuation for each see Factor Valuation Memorandum.

Where we could only obtain surrogate values that were not contemporaneous with the POI, we inflated (or deflated) the surrogate values using the Philippine Wholesale Price Index (WPI) as published in the International Financial Statistics of the International Monetary Fund.

Consistent with 19 CFR 351.408(c)(3), we valued labor using the PRC regression-based wage rate as reported on Import Administration's home page, Import Library, Expected Wages of Selected NME Countries, revised in December 2009, available at http://ia.ita.doc.gov/wages/index.html. Because this regression-based wage rate does not separate the labor rates into different skill levels or types of labor, we have applied the same wage rate to all skill levels and types of labor reported by the respondent. If the NME wage rates are updated by the Department prior to issuance of the final results, we will use the updated wage rate in the final results. See Factor Valuation Memorandum.

We valued electricity using contemporaneous Philippine data from The Cost of Doing Business in Camarines Sur available at the Philippine government's Web site for the province: http://www.camarinessur.gov.ph. This data pertained only to industrial consumption. See Factor Valuation Memorandum.

We calculated the value of domestic brokerage and handling using Philippine data cited in a report compiled and released by the World Bank Group, entitled “Trading Across Borders” and available at http://www.doingbusiness.org/ExploreTopics/TradingAcrossBorders/Details.aspx?economyid=153. This was the only surrogate value for brokerage and handling on the record that specifically stated that its costs included amounts for both brokerage and handling.

We calculated the surrogate value for truck freight using Philippine data from two sources: (1) The Cost of Doing Business in Camarines Sur, available at the Philippine government's Web site for the province: http://www.camarinessur.gov.ph; and (2) a news article from the Manila Times entitled “Government Mulls Cut in Export Target.”

We calculated the surrogate value for diesel fuel using Philippine data from a Web site entitled Philippine Business available at http://www.philippinebusiness.com.ph/economic_stats/utilities.htm.

We calculated the surrogate value for water using Philippine data based on two water utility companies providing service to the Manila metropolitan area: Manila Water (http://www.manilawater.com/downloads/tariff08.pdf) and Maynilad Water Services, Inc. (http//www.mayniladwater.comph/files/Tariff_effective_Jan012008.pdf); and also data based on a water utility company covering all of the Philippines outside of Manila: Philippines Local Water Utilities Administration (LUWUA). We averaged all data from the “Manila” service providers and the “outside of Manila” service providers separately and based the surrogate value on an average of the two figures.

We valued factory overhead, selling, general, and administrative expenses (SG&A), and profit, using the audited financial statements for the fiscal year ending December 31, 2008, from the following producers: Tequesta International Inc.; Insular Rattan and Native Products Corp.; Horizon International Manufacturing, Inc.; Arkane International Corporation; and Casa Cebuana Incorada, which are the only Philippine producers of merchandise identical to subject merchandise, received no countervailable subsidies, and earned a before tax profit in 2008 for which we have financial information. From this information, we were able to determine factory overhead as a percentage of the total raw materials, labor and energy (ML&E) costs; SG&A as a percentage of ML&E plus overhead (i.e., cost of manufacture); and the profit rate as a percentage of the cost of manufacture plus SG&A. For further discussion, see Factor Valuation Memorandum.

Currency Conversion

We made currency conversions into U.S. dollars, in accordance with section 773A(a) of the Act, based on the exchange rates in effect on the dates of the U.S. sales as certified by the Federal Reserve Bank.

Preliminary Results of Review

We preliminarily determine that the following weighted-average dumping margins exist for the period January 1, 2008 through December 31, 2008:

Exporter | Antidumping duty percent margin
Dongguan Sunrise Furniture Co., Ltd., Taicang Sunrise Wood Industry Co., Ltd., Taicang Fairmount Designs Furniture Co., Ltd., and Meizhou Sunrise Furniture Co., Ltd.* | 20.36
Longrange Furniture Co., Ltd.* | 20.36
Langfang Tiancheng Furniture Co., Ltd.* | 20.36
Shun Feng Furniture Co., Ltd.^ | 20.36
COE Ltd.^ | 20.36
Tianjin Fortune Furniture Co., Ltd.* | 20.36
Transworld (Zhangzhou) Furniture Co., Ltd.^ | 20.36
Decca Furniture Ltd., aka Decca^ | 20.36
Dongguan Landmark Furniture Products, Ltd.^ | 20.36
Winny Overseas, Ltd.^ | 20.36
Dongguan Yihaiwei Furniture Limited^ | 20.36
Baigou Crafts Factory of Fengkai* | 20.36
Zhongshan Gainwell Furniture Co., Ltd.* | 20.36
PRC-Wide Entity ⁷⁵ | 216.01

Disclosure

The Department will disclose calculations performed for these preliminary results to the parties within five days of the date of publication of this notice in accordance with 19 CFR 351.224(b).

⁷⁵ The mandatory respondent Aosen is part of the PRC-wide entity.

Comments

Interested parties may submit written comments no later than 30 days after the date of publication of these preliminary results of review. See 19 CFR 351.309(c)(1)(ii). Rebuttal comments must be limited to the issues raised in the written comments and may be filed no later than 35 days after the date of publication. See 19 CFR 351.309(d). Parties submitting written comments or rebuttal are requested to provide the Department with an additional copy of those comments on diskette. Any interested party may request a hearing within 30 days of publication of these preliminary results. See 19 CFR 351.310(c). Any hearing, if requested, ordinarily will be held two days after the scheduled date for submission of rebuttal briefs. See 19 CFR 351.310(d). Parties should confirm by telephone the date, time, and location of the hearing two days before the scheduled date.

The Department will issue the final results of the administrative review, which will include the results of its analysis of issues raised in the briefs, within 120 days of publication of these preliminary results, in accordance with 19 CFR 351.213(h)(1) unless the time limit is extended.

Assessment Rates

Pursuant to 19 CFR 351.212, the Department will determine, and CBP shall assess, antidumping duties on all appropriate entries of subject merchandise in accordance with the final results of this review. For assessment purposes, the Department calculated exporter/importer- (or customer) -specific assessment rates for merchandise subject to this review. Where appropriate, the Department calculated an ad valorem rate for each importer (or customer) by dividing the total dumping margins for reviewed sales to that party by the total entered values associated with those transactions. For duty-assessment rates calculated on this basis, the Department will direct CBP to assess the resulting ad valorem rate against the entered customs values for the subject merchandise. Where appropriate, the Department calculated a per-unit rate for each importer (or customer) by dividing the total dumping margins for reviewed sales to that party by the total sales quantity associated with those transactions. For duty-assessment rates calculated on this basis, the Department will direct CBP to assess the resulting per-unit rate against the entered quantity of the subject merchandise. Where an importer- (or customer) -specific assessment rate is de minimis (i.e., less than 0.50 percent), the Department will instruct CBP to assess that importer (or customer's) entries of subject merchandise without regard to antidumping duties. The Department intends to instruct CBP to liquidate entries containing subject merchandise exported by the PRC-wide entity at the PRC-wide rate we determine in the final results of this review. The Department intends to issue appropriate assessment instructions directly to CBP 15 days after publication of the final results of this review.

Cash Deposit Requirements

The following cash deposit requirements will be effective upon publication of the final results of these reviews for shipments of subject merchandise from the PRC entered, or withdrawn from warehouse, for consumption on or after the publication date, as provided by sections 751(a)(1) and (a)(2)(C) of the Act: (1) For all respondents receiving a separate rate, the cash deposit rate will be that established in the final results of these reviews; (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate of 216.01 percent; and (4) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

The Department is issuing and publishing these preliminary results of administrative review in accordance with section 777(i)(1) of the Act, and 19 CFR 351.221(b)(4).

Dated: February 1, 2010.
Carole Showers,
Acting Deputy Assistant Secretary for Policy and Negotiations.

[FR Doc. 2010-2590 Filed 2-4-10; 8:45 am]

BILLING CODE 3510-DS-P